DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the Foreign Agricultural Service's (FAS) intention to request an extension for a currently approved information collection. This information collection is required in petitions filed with FAS for emergency relief from duty-free imports of perishable products under section 204(d) of the Andean Trade Promotion and Drug Eradication Act.

DATES: Comments on this notice must be received by May 4, 2009 to be assured consideration.

ADDRESSES: Mail or deliver comments to Robert Miller, Office of Negotiations and Agreements, Foreign Agricultural Service, Stop 1040, 1400 Independence Avenue, SW., Washington, DC 20250-1040, or e-mail to Robert.Miller@fas.usda.gov, or fax to (202) 720-1139.

FOR FURTHER INFORMATION CONTACT: Robert Miller, Office of Negotiations and Agreements, Foreign Agricultural Service, Stop 1040, 1400 Independence Avenue, SW., Washington, DC 20250-1040, (202) 720-1047.

SUPPLEMENTARY INFORMATION: Title: Emergency Relief from Duty-Free Imports of Perishable Products from Andean Countries.

OMB Number: 0551-0033.

Expiration Date of Approval: June 30, 2009.

Type of Request: Extension for a currently approved information collection.

Abstract: The Andean Trade Preference Act, 19 U.S.C. 3201 et seq., was retitled the “Andean Trade Promotion and Drug Eradication Act” (the Act), under section 3101 of Public Law 107-210, the “Trade Act of 2002”. The Act authorized the President to proclaim duty-free treatment for imports from Bolivia, Colombia, Ecuador, and Peru except for specifically excluded products. Section 204(d) provides for emergency relief from duty-free imports of certain perishable agricultural products from the beneficiary Andean countries and, in part, that a petition for emergency import relief may be filed simultaneously with the Secretary of Agriculture and the U.S. International Trade Commission (ITC) pursuant to the provisions of section 201 of the Trade Act of 1974, as amended (19 U.S.C. 2251). Emergency import relief is limited to restoration of most favored nation tariffs during the period of the ITC's investigation. On October 16, 2008, section 208 of Public Law 110-436 amended the Act to extend the expiration date from December 31, 2008 to December 31, 2009. In the case of Ecuador and Bolivia, the President will review on or before June 30, 2009 to determine if both countries satisfy the requirements set forth in Section 203(c) for being designated as a beneficiary country in order to continue to receive benefits through December 31, 2009. Under 7 CFR part 1540, subpart C of this part, a procedure is provided for an entity to submit a petition for emergency relief to the Administrator of FAS. Section 1540.43 requests that the following information, to the extent possible, be included in a petition: A description of the imported perishable product concerned; country of origin of imports; data indicating increased imports are a substantial cause of serious injury (or threat of injury) to the domestic industry producing a like or directly competitive product; evidence of serious injury; and a statement indicating why emergency action would be warranted. The information collected provides essential data for the Secretary regarding specific market conditions with respect to the industry requesting emergency relief. Within 14 days of the filing of a petition, the Secretary shall advise the President if there is reason to believe that emergency action is warranted, or to publish a notice of a determination not to recommend emergency action and advise the petitioner.

Estimate of Burden: Public reporting burden for this collection of information is estimated at $533.00.

Respondents: Non-profit institutions, businesses, or farms.

Estimated Number of Respondents: 1.

Estimated Number of Responses per Respondent: 1.

Estimated Total Annual Burden on Respondents: 23 hours.

Copies of the information collection can be obtained from Tamoria Thompson-Hall, Information Collection Coordinator, at (202) 690-1690.

Requests for Comments: The public is invited to submit comments and suggestions to the above address regarding the accuracy of the burden estimate, ways to minimize the burden, including the use of automated collection techniques or other forms of information technology, or any other aspect of this collection of information. Comments on issues covered by the Paperwork Reduction Act are most useful to the Office of Management and Budget (OMB) if received within 30 days of the publication of the Notice and Request for Comments, but must be submitted no later than 60 days from the date of publication to be assured consideration. All responses to this notice will be summarized and included in the request for OMB approval. All comments will also be a matter of public record.

Signed at Washington, DC on February 19, 2009.
Suzanne Hale,
Acting Administrator, Foreign Agricultural Service.

[FR Doc. E9-4696 Filed 3-4-09; 8:45 am]

BILLING CODE 3410-10-P